ENVIRONMENTAL PROTECTION AGENCY

[ER-FRL-6628-5]

Notice of Intent To Prepare an Environmental Impact Statement (EIS) on the Federal Funding, Construction, Operation and Monitoring of a Coastal Wetlands Restoration Project, Mississippi River Water Reintroduction Into the Maurepas Swamp

The U.S. Environmental Protection Agency, Region 6 (EPA), is developing the restoration project as the designated Federal member of the Task Force created by the Coastal Wetlands Planning, Protection and Restoration Act, Public Law 101-646 (CWPPRA).

PURPOSE: EPA has determined that the proposed wetlands restoration effort is a Major Federal Action significantly impacting the human environment. The purpose of the EIS is to ensure that decisions are made in accordance with the policies and purposes of the National Environmental Policy Act. The EIS will be considered by the CWPPRA Task Force in its decisions on funding and on alternative features and activities associated with carrying out the project.

SUMMARY: The proposed action provides for the reintroduction of Mississippi River water into the swamp south of Lake Maurepas in Louisiana for the purpose of restoring the ecological health and productivity of the swamp. Over time, hydrologic modifications to the riverine system have eliminated the natural inputs of fresh Mississippi River water, with its associated nutrients and sediments, that historically built and maintained the project area swamp. The swamp is now stressed and dying due to saltwater intrusion and excessive flooding due to subsidence and insufficient accumulation of sediment. The project will reintroduce approximately 1,500 cubic feet per second of Mississippi River water through a box-culvert structure constructed through the flood protection levee of the Mississippi River, then through an outflow channel for a distance of approximately five miles, and into the swamp south of Lake Maurepas. The outflow channel would be constructed near Garyville, Louisiana, and would connect to the existing Hope Canal north of U.S. Highway 61. As part of this alternative, the Hope Canal is proposed to be enlarged in order to accommodate the estimated project flow. The project is estimated to benefit more than 36,000 acres of cypress-tupelo swamp by increasing input of freshwater, sediments, and nutrients. The EIS will consider impacts of this project with existing and/or proposed flood control measures of the foreseeable future. Efforts will be made to ensure that local drainage problems are not increased as a result of this project. Information will be provided in the EIS from reconnaissance level studies performed for preliminary project evaluation. These studies included site reviews; hydrologic modeling of existing conditions and basic reintroduction scenarios; baseline ecological field studies; and surveys of elevations and cross-sections.

ALTERNATIVE ACTIONS: The CWPPRA Task Force may determine to fund and construct the restoration project; the CWPPRA Task Force may deny funding and construction of the restoration project; or, the Task Force may determine to take no final action until additional funds and/or information are available. The EIS will be utilized in other actions such as the Clean Water Act Section 404 Permit which (1) may be issued as requested, (2) may be issued with conditions, or (3) may be denied.

PUBLIC SCOPING MEETING: The EPA will hold a public meeting to receive public input on the scope of issues to be addressed in the Draft EIS and to identify any significant issues of the proposed project. Interested individuals, groups, agencies and public officials will be encouraged to participate. The exact date and location will be provided by mailing list notice and will be published in major, local and periodic newspapers thirty days in advance.

TO SUBMIT SCOPING COMMENTS, TO REQUEST ADDITIONAL INFORMATION, OR TO BE PLACED ON THE EIS MAILING LIST, CONTACT: Mr. David McQuiddy, CWPPRA Coordinator, Marine and Wetlands Section, Water Quality Protection Division, U.S. EPA (6WQ-EM), 1445 Ross Avenue, Dallas, TX 75202-2733; telephone (214) 665-6722 , e-mail mcquiddy.david@epa.gov, or Ms. Jeanene Peckham, U.S. EPA, Water Quality Protection Field Office, 707 Florida Blvd, Suite B-21, Baton Rouge, LA, 70801; telephone (225) 389-0736, e-mail peckham.jeanene@epa.gov.

Estimated Date for Release of Draft EIS: Winter 2003.

Responsible Official: Gregg A. Cooke, Regional Administrator.

Dated: April 23, 2002.
Anne Norton Miller,
Director, Office of Federal Activities.

[FR Doc. 02-10344 Filed 4-25-02; 8:45 am]

BILLING CODE 6560-50-P